FEDERAL MARITIME COMMISSION

[Docket No. 01-11]

Revocation of License No. 012234 AAA Nordstar Line Inc.; Notice of Show Cause Proceeding

Notice is given that the Commission, on November 5, 2001, pursuant to sections 11 and 19 of the Shipping Act of 1984, served an Order to Show Cause on AAA Nordstar Line, Inc. (“AAA Nordstar”), a Delaware corporation incorporated in 1991 which has operated an ocean transportation intermediary (“OTI”) pursuant to FMC license No. 012234 since August 2000. According to a review of records maintained by the Commission's Bureau of Consumer Complaints and Licensing (“BCCL”), AAA Nordstar maintains principal offices at 1571 Irving Street in Rahway, New Jersey. BCCL records identify the principals of the firm as Anil V. Rane, its President and Qualifying Individual, and Maria E. Fabros, its Vice President and Secretary.

It has come to the attention of the Commission that Anil Rane and Maria Fabros also serve as officers and/or shareholders of Great Eastern Shipping, Inc. (“Great Eastern Shipping”), an unlicensed entity engaged in the transportation of military household goods pursuant to contracts with the U.S. Military Traffic Management Command (“MTMC”). It further appears that Great Eastern Shipping was then sharing office space with AAA Nordstar in Rahway, NJ and possibly at other locations, and that Great Eastern Shipping has held itself out to the public as serving as the agent of AAA Nordstar.¹

¹ At the time of AAA Nordstar's application for an OTI license, applicant's qualifying individual was required to submit standard information regarding the applicant's current office-sharing arrangements, the identification of officers, directors and owners of corporate applicants, locations of branch offices, and any relationships with other corporations or shippers. Applicant's qualifying individual, Anil Rane, responded in the negative to questions regarding common ownership or operation of other companies.

On July 26, 2001, judgment was rendered against Anil Rane in the United States District Court for the District of New Jersey, pursuant to Mr. Rane's plea of guilty to two federal counts alleging mail fraud and conspiracy to commit mail fraud. On September 14, 2001, judgment was rendered against Maria Fabros in the United States District Court, pursuant to Mrs. Fabros' plea of guilty to two counts of mail fraud and conspiracy to commit mail fraud. Sentencing documents relating to the above judgments assert that, from September 1998 through June 2000, co-conspirators Anil Rane and Maria Fabros, acting through Great Eastern Shipping, were awarded more than 350 single-shipment contracts for ocean transportation of cargo through the Department of Defense. It was asserted that defendants Anil Rane and Maria Fabros routinely overbilled MTMC and also falsified documents to make it appear that Great Eastern Shipping was using U.S. flag vessels when the transportation was, in fact, performed by foreign-registered vessels, contrary to U.S. shipping laws and the applicable MTMC shipping contracts. Each defendant was sentenced to jail time and extended court supervision upon subsequent release. Pursuant to a separate settlement agreement, defendants agreed to make financial restitution to the government in the amount of $4,323,673.79.

The crimes of mail fraud and conspiracy to commit mail fraud in connection with Great Eastern Shipping's business of handling and transporting military household goods on behalf of the Department of Defense, admitted in the pleas of guilty entered by Mr. Anil Rane and Mrs. Maria Fabros, constitute acts of moral turpitude reflecting directly upon the licensee's continued fitness to conduct business as an OTI. This is true inasmuch as the offending officials, and perhaps others having ties to Great Eastern Shipping, have served and may continue to serve as employees, officers, directors and shareholders of the corporate licensee, or as the agents for same through the means or device of Great Eastern Shipping. It further appears that, in applying for and conducting business under authority of its OTI license, AAA Nordstar Inc. and its principals made materially false or misleading statements to the Commission, and subsequently failed to correct such omissions or otherwise advise the Commission of changes in material facts relating to its operations and the qualifications of its management.²

² Such omissions or misstatements of fact include, but are not limited to, common management, ownership and space sharing arrangements between AAA Nordstar and Great Eastern Shipping; the failure to disclose or obtain additional surety with respect to operation of branch offices in Florida and California; the failure to disclose all current officers and/or directors of AAA Nordstar; and the failure to disclose changes in material facts relating to the convictions of AAA Nordstar principals Anil Rane and Maria Fabros. Under 46 CFR 515.12(d), licensees and applicants must advise Commission of changes in material fact, within thirty (30) days of occurrence, through the submission of an amended Form FMC-18 Rev.

The order directs AAA Nordstar Inc. to show cause, why its OTI license, FMC No. 012234, should not be revoked inasmuch as the officers, directors or other principals, employees or agents of licensee have been found to have violated provisions of the 1984 Act or other shipping statutes or regulations related to carrying on the business of an ocean transportation intermediary, and that such licensee is otherwise not qualified to render intermediary services.

The full text of the Order may be viewed on the Commission's home page at www.fmc.gov, or at the Office of the Secretary, Room 1046, 800 N. Capitol Street, NW, Washington, DC.

Any person may file a petition for leave to intervene in accordance with 46 CFR 502.72 and the provisions of the Order to Show Cause.

Theodore A. Zook,
Assistant Secretary.

[FR Doc. 01-28666 Filed 11-14-01; 8:45 am]

BILLING CODE 6730-01-P